DEPARTMENT OF COMMERCE

International Trade Administration

[A-549-812]

Notice of Rescission of Antidumping Duty Administrative Review: Furfuryl Alcohol from Thailand

AGENCY: Import Administration, International Trade Administration, Department of Commerce.

EFFECTIVE DATE: November 22, 2005.

FOR FURTHER INFORMATION CONTACT: Andrew Smith or Damian Felton, AD/CVD Operations, Office 1, Import Administration, U.S. Department of Commerce, 14th Street and Constitution Avenue, NW, Washington, DC 20230; telephone (202) 482-1276 and (202) 482-0133, respectively.

SUPPLEMENTARY INFORMATION:

Background

On July 25, 1995, the Department of Commerce (“the Department”) published an antidumping duty order on furfuryl alcohol from Thailand. See Notice of Amended Final Antidumping Duty Determination and Order: Furfuryl Alcohol from Thailand, 60 FR 38035 (July 25, 1995).

On July 1, 2005, the Department published in the Federal Register an Antidumping or Countervailing Duty Order, Finding, or Suspended Investigation: Opportunity to Request Administrative Review, 70 FR 38099 (July 1, 2005). On July 19, 2005, the Department received a timely filed request for an administrative review of the antidumping duty order on furfuryl alcohol from Thailand with respect to Indorama Chemicals (Thailand) Ltd. (“IRCT”) from Penn Specialty Chemicals, Inc. (“petitioner”). On August 29, 2005, the Department published the initiation of an administrative review of IRCT covering the period July 1, 2004, through June 30, 2005. See Initiation of Antidumping and Countervailing Duty Administrative Reviews and Requests for Revocation in Part, 70 FR 51009 (August 29, 2005). This review covers imports of furfuryl alcohol from one producer/exporter, IRCT. On October 21, 2005, the petitioner timely withdrew its request for an administrative review of IRCT. The petitioner's request was the only request for an administrative review of IRCT's U.S. sales.

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes. The product subject to this order is classifiable under subheading 2932.13.00 of the Harmonized Tariff Schedule of the United States (“HTSUS”). Although the HTSUS subheading is provided for convenience and customs purposes, our written description of the scope is dispositive.

Rescission of the Administrative Review

Pursuant to the Department's regulations, the Department will rescind an administrative review “if a party that requested a review withdraws the request within 90 days of the date of publication of the notice of initiation of the requested review”. See 19 CFR 351.213(d)(1). Since the petitioner withdrew its request for an administrative review on October 21, 2005, which is within the 90-day deadline, and no other party requested a review with respect to this company, the Department is rescinding this administrative review of IRCT in accordance with 19 CFR 351.213(d)(1).

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

The Department is issuing and publishing this notice in accordance with section 777(i) of the Tariff Act of 1930, as amended and 19 CFR 351.213(d)(4).

November 17, 2005.
Stephen J. Claeys,
Deputy Assistant Secretary for Import Administration.

[FR Doc. E5-6443 Filed 11-21-05; 8:45 am]

BILLING CODE 3510-DS-S